DEPARTMENT OF HEALTH AND HUMAN SERVICES

Substance Abuse and Mental Health Services Administration

Notice of SAMHSA's Anticipated FY 2006 Grant Funding Opportunities

SUMMARY: This notice is to inform the public of SAMHSA's anticipated grant funding opportunities for FY 2006, based on the President's FY 2006 budget request. All information provided is tentative and preliminary. These plans may change and final figures will not be available until after SAMHSA receives its 2006 appropriation.

In January 2005, SAMHSA ceased publishing notices of grant funding opportunities in the Federal Register, consistent with the Department of Health and Human Services management objectives. Announcements are instead posted on http://www.Grants.gov and on SAMHSA's Web site at http://www.samhsa.gov. Interested applicants should visit these Web sites for specific information about these programs as it becomes available. Applicants should also be aware that all the necessary information to apply for grant funds will continue to be available at SAMHSA's two national clearinghouses: the National Clearinghouse for Alcohol and Drug Information (NCADI)-1-800-729-6686—for substance abuse prevention or treatment grants; and the National Mental Health Information Center-1-800-789-CMHS (2647)—for mental health grants.

F0R FURTHER INFORMATION CONTACT: Cathy J. Friedman, M.A., SAMHSA, 1 Choke Cherry Road, Room 8-1097, Rockville, MD 20857; phone (240) 276-2316; e-mail: cathy.friedman@samhsa.hhs.gov.

BILLING CODE 4162-20-P

Dated: July 12, 2005.
Daryl Kade,
Director, Office of Policy, Planning and Budget, Substance Abuse and Mental Health Services Administration.

[FR Doc. 05-14163 Filed 7-18-05; 8:45 am]

BILLING CODE 4162-20-C